DEPARTMENT OF HEALTH AND HUMAN SERVICES

Administration for Children and Families

Submission for OMB Review; Comment Request

Title: The OCSE-157 Child Support Enforcement Annual Data Report.

OMB No.: 0970-0177.

Description: The information obtained from this form will be used to: (1) Report Child Support Enforcement activities to the Congress as required by law; (2) calculate incentive measures performance and performance indicators utilized in the program; and (3) assist the Office of Child Support Enforcement (OCSE) in monitoring and evaluating State Child Support programs. OCSE is proposing minor changes to the OCSE-157 report instructions for medical support line items that will provide states with the option to define medical support to include private health insurance as well as other health care coverage such as Medicaid, Children's Health Insurance Program (CHIP) and other state coverage plans, and cash medical support. Further legislative or regulatory changes may be necessary to update medical child support policy.

Respondents: State, Local or Tribal Government.

Annual Burden Estimates.

Instrument | Number of respondents | Number of responses per respondent | Average burden hours per response | Total burden hours
OCSE-157 Child Support Annual Data Report | 54 | 1 | 7 | 378

Estimated Total Annual Burden Hours: 378.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, E-mail: OIRA_SUBMISSION@OMB.EOP.GOV, Attn: Desk Officer for the Administration for Children and Families.

Robert Sargis
Reports Clearance Officer.

[FR Doc. 2011-20105 Filed 8-8-11; 8:45 am]

BILLING CODE 4184-01-P